DEPARTMENT OF HEALTH AND HUMAN SERVICES

Administration for Children and Families

[OMB No. 0970-0160]

Submission for Office of Management and Budget Review; Procedures for Requests From Tribal Lead Agencies To Use Child Care and Development Fund Funds for Construction or Major Renovation of Child Care Facilities

AGENCY: Office of Child Care, Administration for Children and Families, U.S. Department of Health and Human Services.

ACTION: Request for Public Comments.

SUMMARY: The Administration for Children and Families (ACF) is proposing to collect data for the Procedures for Requests from Tribal Lead Agencies to use Child Care and Development Fund (CCDF) Funds for Construction or Major Renovation of Child Care Facilities. This information collection was previously approved by the Office of Management and Budget (OMB). The Office of Child Care is proposing to reinstate the information collection with changes.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: 42 U.S.C. 9858m(c)(6) of the Child Care and Development Block Grant Act allows Tribal Lead Agencies to use CCDF grant awards for construction and renovation of child care facilities. A tribal grantee must first request and receive approval from the ACF before using funds for construction or major renovation. To use CCDF funds awarded in a given fiscal year (FY) on construction or major renovation, a Tribal Lead Agency must submit an application prior to July 1 of that FY. The application deadline applies to direct funded tribes and tribes with CCDF funds integrated into a 477 plan.

This information collection contains the statutorily mandated uniform procedures for the solicitation and consideration of requests, protection of federal interest, and instructions for preparation of environmental assessments in conjunction with the National Environmental Policy Act.

Changes requested to the form clarify the process to align with ACF Real Property Guidance, update language regarding submission of the Standard Form (SF)-429 cover page, include technical changes regarding the official title of Public Law 102-477 to reflect as the Indian Employment, Training and Related Services Consolidation Act of 2017, and include the correct contact for submission of SF-429 information and updated OMB circular references.

Respondents: Tribal Child Care Lead Agencies acting on behalf of tribal governments.

Annual Burden Estimates
Instrument | Type of burden | Total number of respondents | Total number of responses per respondent | Average burden hours per response | Total burden hours | Annual burden hours
Procedures for Requests from Tribal Lead Agencies to use CCDF Funds for Construction or Major Renovation of Child Care Facilities | Reporting | 75 | 2 | 5 | 750 | 250
| Record-keeping |  |  | 15 | 2,250 | 750

Estimated Total Annual Burden Hours: 1000.

Authority: 42 U.S.C. 9858(c)(6).

Mary B. Jones,
ACF/OPRE Certifying Officer.

[FR Doc. 2023-07763 Filed 4-12-23; 8:45 am]

BILLING CODE 4184-81-P